DEPARTMENT OF ENERGY

Federal Energy Regulatory Commission

[Docket No. RP03-77-000]

Reliant Energy Services, Inc., Complainant, v. Florida Gas Transmission Company, Respondent; Notice of Complaint and Request for Fast Track Processing

November 18, 2002.

Take notice that on November 15, 2002, Reliant Energy Services, Inc. (RES) filed a Complaint and Request for Fast Track Processing against Florida Gas Transmission Company (FGT) requesting that the Federal Energy Regulatory Commission (Commission) find that FGT is in violation of its tariff by demanding a letter of credit far in excess of that permitted by the creditworthiness provisions of FGT's tariff and excluding, on an unduly discriminatory basis in violation of sections 5 and 7 of the Natural Gas Act (NGA), RES from an expansion project unless RES posts a letter of credit far in excess of that permitted by the creditworthiness provisions of FGT's tariff. RES also contends that FGT has indicated an intention to build an expansion project that is inconsistent with its certificate authorization. RES requests that the Commission issue an order finding and declaring that FGT's notification to RES that FGT intends to terminate its contractual obligation to provide firm transportation service to RES through use of the Phase VI facilities is unduly discriminatory, in violation of FGT's tariff, the Commission's certificate issued to FGT for its phase VI Facilities expansion in Docket No. CP02-27-000, and the NGA.

A copy of the filing was served upon the Respondent.

Any person desiring to be heard or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. The answer to the complaint and all comments, interventions or protests must be filed on or before November 25, 2002. This filing is available for review at the Commission in the Public Reference Room or may be viewed on the Commission's website at http://www.ferc.gov using the “FERRIS” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's web site under the “e-Filing” link. The Commission strongly encourages electronic filings.

Linwood A. Watson, Jr.,
Deputy Secretary.

[FR Doc. 02-29749 Filed 11-21-02; 8:45 am]

BILLING CODE 6717-01-P